Title 3—

The President

Proclamation 7615 of October 29, 2002

National Family Caregivers Month, 2002

By the President of the United States of America

A Proclamation

One of our most important responsibilities as citizens is to give back to our communities. Individuals who care for loved ones in their homes demonstrate the compassionate spirit of America. During National Family Caregivers Month, we honor these individuals who bring hope and comfort to their fellow citizens in need.

America's family caregivers are vital to the strength of our communities. Through specialized care for family members with disabilities or those who are aging or chronically ill, millions of caregivers help their loved ones live in a comforting environment. As the size of our elderly population continues to grow, home care increasingly represents an important, dignified, and compassionate alternative for countless individuals.

To support and train families at all stages of caregiving, the Administration on Aging provides community-based assistance through the “National Family Caregiver Support Program.” This network of community service providers, faith-based organizations, tribal organizations, State and local agencies on aging, and hundreds of thousands of volunteers informs caregivers that they are not alone, and that help is always available through counseling, support groups, training, respite care, and supplemental services.

As we work to build a culture of service, responsibility, and compassion, caregivers continue to bring our families and communities together. Through their efforts to assist loved ones in need, family caregivers demonstrate the true spirit of our Nation.

NOW, THEREFORE, I, GEORGE W. BUSH, President of the United States of America, by virtue of the authority vested in me by the Constitution and laws of the United States, do hereby proclaim November 2002 as National Family Caregivers Month. I encourage all Americans to pause to honor the family members, friends, and neighbors who shoulder caregiving responsibilities.

IN WITNESS WHEREOF, I have hereunto set my hand this twenty-ninth day of October, in the year of our Lord two thousand two, and of the Independence of the United States of America the two hundred and twenty-seventh.

B

[FR Doc. 02-28058

Filed 10-31-02; 10:34 am]

Billing code 3195-01-P